DEPARTMENT OF STATE

[Public Notice: 12440]

Notice of Federal Advisory Committee Meeting

SUMMARY: Pursuant to the Federal Advisory Committee Act and applicable regulations, the Department of State hereby provides notice of the next meeting of the President's Advisory Council on African Diaspora Engagement (“the Advisory Council”).

DATES: July 15, 2024.

ADDRESSES: This event will take place in-person in Lagos, Nigeria.

FOR FURTHER INFORMATION CONTACT: For additional information and for those interested in participating, please contact Mr. Matthew Becker, Senior Foreign Affairs Officer in the Office of the Assistant Secretary, Bureau of African Affairs, U.S. Department of State by email at BeckerMA@state.gov or by phone at (202) 647-1790.

SUPPLEMENTARY INFORMATION: Pursuant to the Federal Advisory Committee Act, 5 U.S.C. 1001 et seq., and 41 CFR 102-3.65, the Advisory Council will host a plenary session meeting. The primary mission of the Advisory Council is to provide counsel to the President on enhancing connections between the United States Government and the African diaspora within the United States, aligning with the objectives outlined in the U.S. Strategy Toward Sub-Saharan Africa.

Text: In accordance with Executive Order 14089, the Advisory Council will host its second engagement of the year from July 15-17, 2024, in Lagos and Abuja, Nigeria. Members of the Advisory Council will meet in Lagos before engaging in a series of on-site discussions relating to diaspora-led investments on the continent such as education, youth engagement, and the creative industries sector in sports, film, music, and arts. They will meet with representatives from the Nigerian government, Nigerian civil society, youth leaders, and professionals in the creative industries sector and finance sector.

Meetings are open to the public. Priority for in-person seating will be given to the members of the Advisory Council and remaining seating will be reserved on a first-come, first-served basis. Interested members of the public may reserve a seat by contacting Matthew Becker at BeckerMA@state.gov.

Established in accordance with Executive Order 14089, the Advisory Council operates under the overarching authority of the Secretary of State and the Department of State, as outlined in Title 22 of the United States Code. Specifically, its mandate aligns with section 2656 of that Title and adheres to the Federal Advisory Committee Act.

Authority: 5 U.S.C. 1001 et seq. and 22 U.S.C. 2651a.

Matthew A. Becker,
Designated Federal Officer, President's Advisory Council on African Diaspora Engagement, Department of State.

[FR Doc. 2024-13954 Filed 6-25-24; 8:45 am]

BILLING CODE 4710-26-P